Title 3—

The President

Proclamation 8282 of August 26, 2008

National Preparedness Month, 2008

By the President of the United States of America

A Proclamation

During National Preparedness Month, we underscore the important responsibility Americans have to be ready for emergencies in our homes, businesses, and communities.

The Department of Homeland Security's Ready campaign highlights preparedness steps, including having an emergency supply kit, making a family emergency plan, and becoming informed about different types of emergencies. After preparing themselves and their families, Americans can take the next step and get involved in helping to prepare their communities for all types of emergencies. For more information, citizens may visit www.ready.gov and citizencorps.gov.

During National Preparedness Month, we also honor our Nation's police officers, firefighters, and emergency personnel for their hard work and commitment to protecting others. As first responders, they have demonstrated the true meaning of heroism by taking great risks to safeguard our communities, and all Americans are grateful for their efforts.

NOW, THEREFORE, I, GEORGE W. BUSH, President of the United States of America, by virtue of the authority vested in me by the Constitution and laws of the United States, do hereby proclaim September 2008 as National Preparedness Month. I call upon the people of the United States to recognize the importance of preparing for potential emergencies and to observe this month by participating in appropriate events, activities, and preparedness programs.

IN WITNESS WHEREOF, I have hereunto set my hand this twenty-sixth day of August, in the year of our Lord two thousand eight, and of the Independence of the United States of America the two hundred and thirty-third.

[FR Doc. E8-20271

Filed 8-28-08; 8:45 am]

Billing code 3195-01-P